DEPARTMENT OF AGRICULTURE

Forest Service

Intergovernmental Advisory Committee Meeting, Northwest Forest Plan

AGENCY: Forest Service, USDA.

ACTION: Notice of meeting.

SUMMARY: The Intergovernmental Advisory Committee (IAC), Northwest Forest Plan (NWFP), will meet on August 5, 2003, at the Sheraton Portland Airport, located at 8235 NE Airport Way in Portland, Oregon. The meeting is scheduled to begin at 10 a.m. and adjourn at approximately 4:45 p.m. In general, the purpose of the meeting is to continue committee discussions related to NWFP implementation. Particular meeting agenda items include, but are not limited to, a report on the recent Forest Service Region 5 (California) meeting reviewing local NWFP implementation, a report on the recent “Innovations in Species Conservation Symposium,” a presentation on Aquatic Monitoring issues and potential Federal/State collaboration opportunities, Stewardship Contracting, progress reports on several implementation initiatives (including supplemental environmental impact statements for Survey and Manage, Aquatic Conservation Strategy), and Fish and Wildlife Service's Five-Year Review of Northern Spotted Owl and Marbled Murrelet. The meeting is open to the public and will be fully accessible for people with disabilities. A 15-minute time slot is reserved following lunch for public comments. Interpreters are available upon request at least 10 days prior to the meeting. Written comments may be submitted for the meeting record. Interested persons are encouraged to attend.

FOR FURTHER INFORMATION CONTACT: Questions regarding this meeting may be directed to Kath Collier, Management Analyst, Regional Ecosystem Office, 333 SW First Avenue, P.O. Box 3623, Portland, OR 97208 (Phone: 503-808-2165).

Dated: July 9, 2003.
Anne Badgley,
Designated Federal Official.

[FR Doc. 03-19625 Filed 7-31-03; 8:45 am]

BILLING CODE 3410-11-P